COMMITTEE FOR PURCHASE FROM PEOPLE WHO ARE BLIND OR SEVERELY DISABLED

Procurement List; Proposed Additions and Deletions

AGENCY: Committee for Purchase From People Who Are Blind or Severely Disabled.

ACTION: Proposed addition to and deletions from Procurement List.

SUMMARY: The Committee is proposing to add to the Procurement List a service to be furnished by nonprofit agencies employing persons who are blind or have other severe disabilities, and to delete products and services previously furnished by such agencies.

Comments Must Be Received on or Before: January 21, 2007.

ADDRESSES: Committee for Purchase From People Who are Blind or Severely Disabled, Jefferson Plaza 2, Suite 10800, 1421 Jefferson Davis Highway, Arlington, VA 22202-3259.

FOR FURTHER INFORMATION OR TO SUBMIT COMMENTS CONTACT: Sheryl D. Kennerly, Telephone: (703) 603-7740, Fax: (703) 603-0655, or e-mail CMTEFedReg@jwod.gov.

SUPPLEMENTARY INFORMATION: This notice is published pursuant to 41 U.S.C. 47(a)(2) and 41 CFR 51-2.3. Its purpose is to provide interested persons an opportunity to submit comments on the proposed actions.

Additions

If the Committee approves the proposed additions, the entities of the Federal Government identified in this notice for each product or service will be required to procure the services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the services to the Government.

2. If approved, the action will result in authorizing small entities to furnish the services to the Government.

3. There are no known regulatory alternatives which would accomplish the objectives of the Javits-Wagner-O'Day Act (41 U.S.C. 46-48c) in connection with the services proposed for addition to the Procurement List.

Comments on this certification are invited. Commenters should identify the statement(s) underlying the certification on which they are providing additional information.

End of Certification

The following service is proposed for addition to Procurement List for production by the nonprofit agencies listed:

Services

Service Type/Location: Base Supply Center, U.S. Census Bureau Federal Building, Suitland, MD.

NPA: Winston-Salem Industries for the Blind, Winston-Salem, NC.

Contracting Activity: U.S. Census Bureau, Suitland, MD.

Deletions

Regulatory Flexibility Act Certification

I certify that the following action will not have a significant impact on a substantial number of small entities. The major factors considered for this certification were:

1. If approved, the action may result in additional reporting, recordkeeping or other compliance requirements for small entities.

2. If approved, the action may result in authorizing small entities to furnish the products and services to the Government.

3. There are no known regulatory alternatives which would accomplish the objectives of the Javits-Wagner-O'Day Act (41 U.S.C. 46-48c) in connection with the products and services proposed for deletion from the Procurement List.

End of Certification

The following products and services are proposed for deletion from the Procurement List:

Products

Bedspring

NSN: 7210-00-110-8104—Bedspring.

NSN: 7210-00-110-8105—Bedspring.

NSN: 7210-00-582-0984—Bedspring.

NSN: 7210-00-582-7540—Bedspring.

NPA: Georgia Industries for the Blind, Bainbridge, GA.

NPA: L.C. Industries For The Blind, Inc., Durham, NC.

NPA: Lions Volunteer Blind Industries, Inc., Morristown, TN.

NPA: Mississippi Industries for the Blind, Jackson, MS.

NPA: Virginia Industries for the Blind, Charlottesville, VA.

NPA: Winston-Salem Industries for the Blind, Winston-Salem, NC.

Contracting Activity: GSA, Southwest Supply Center, Fort Worth, TX.

Box, Wood

NSN: 8115-00-NSH-0156—Box, Wood.

NSN: 8115-00-NSH-0157—Box, Wood.

NSN: 8115-00-NSH-0158—Box, Wood.

NSN: 8115-00-NSH-0159—Box, Wood.

NSN: 8115-00-NSH-0160—Box, Wood.

NSN: 8115-00-NSH-0161—Box, Wood.

NSN: 8115-00-NSH-0162—Box, Wood.

NSN: 8115-00-NSH-0163—Box, Wood.

NSN: 8115-00-NSH-0164—Box, Wood.

NSN: 8115-00-NSH-0165—Box, Wood.

NSN: 8115-00-NSH-0166—Box, Wood.

NSN: 8115-00-NSH-0167—Box, Wood.

NSN: 8115-00-NSH-0168—Box, Wood.

NSN: 8115-00-NSH-0169—Box, Wood.

NSN: 8115-00-NSH-0170—Box, Wood.

NSN: 8115-00-NSH-0171—Box, Wood.

NSN: 8115-00-NSH-0172—Box, Wood.

NSN: 8115-00-NSH-0173—Box, Wood.

NSN: 8115-00-NSH-0174—Box, Wood.

NSN: 8115-00-NSH-0175—Box, Wood.

NSN: 8115-00-NSH-0177—Box, Wood.

NSN: 8115-00-NSH-0178—Box, Wood.

NSN: 8115-00-NSH-0179—Box, Wood.

NSN: 8115-00-NSH-0180—Box, Wood.

NSN: 8115-00-NSH-0181—Box, Wood.

NSN: 8115-00-NSH-0186—Box, Wood.

NSN: 8115-00-NSH-0192—Box, Wood.

NSN: 8115-00-NSH-0199—Box, Wood.

NSN: 8115-00-NSH-0203—Box, Wood.

NPA: Helena Industries, Inc., Helena, MT.

Contracting Activity: Naval Supply Center, San Diego, CA, San Diego, CA.

Brush, Wire, Scratch

NSN: 7920-00-223-7649—Brush, Wire, Scratch.

NPA: Industries for the Blind, Inc., West Allis, WI.

Contracting Activity: GSA, Southwest Supply Center, Fort Worth, TX.

Cap Assembly, Plastic Water Can

NSN: 7240-01-380-9411—Cap Assembly, Plastic Water Can.

NPA: L.C. Industries For The Blind, Inc., Durham, NC.

Contracting Activity: Defense Supply Center Philadelphia, Philadelphia, PA.

Coin Bags

NSN: 8105-00-NSH-0005—Coin Bags.

NSN: 8105-00-NSH-0006—Coin Bags.

NSN: 8105-00-NSH-0008—Coin Bags.

NSN: 8105-00-NSH-0009—Coin Bags.

NSN: 8105-00-NSH-0010—Coin Bags.

NSN: 8105-00-NSH-0011—Coin Bags.

NSN: 8105-00-NSH-0012—Coin Bags.

NSN: 8105-00-NSH-0013—Coin Bags.

NSN: 8105-00-NSH-0014—Coin Bags.

NPA: Mount Rogers Community MH-MR Services Board, Wytheville, VA.

Contracting Activity: Bureau of the Mint, Department of the Treasury, Washington, DC.

Curtain, Vehicular

NSN: 2540-00-402-2157—Curtain, Vehicular.

NPA: APEX, Inc., Anadarko, OK.

Contracting Activity: Defense Supply Center Columbus, Columbus, OH.

Meal Kits

NSN: 8970-01-E59-0242B—Meal Kits (Infantry Kit).

NSN: 8970-01-E59-0243B—Meal Kits (Infantry Kits).

NPA: UNKNOWN.

Contracting Activity: National Guard Bureau.

NSN: 8970-01-E59-0243A—Meal Kits (MORC Kits).

NSN: 8970-01-E59-0242A—Meal Kits (MORC Kits).

NPA: Topeka Association for Retarded Citizens, Topeka, KS.

Contracting Activity: National Guard Bureau.

Pallet, Wood

NSN: 3990-00-NSH-0063—Pallet, Wood.

NSN: 3990-00-NSH-0064—Pallet, Wood.

NPA: Chesapeake Bay Industries, Inc., Easton, MD.

Contracting Activity: Government Printing Office, Washington, DC.

Sponge Rubber Mattresses Rehabilitation

NSN: 7699 24X73X4-1/2—Sponge Rubber Mattresses Rehabilitation.

NSN: 7699 24X76X4-1/2—Sponge Rubber Mattresses Rehabilitation.

NSN: 7699 26X72-1/2X3—Sponge Rubber Mattresses Rehabilitation.

NSN: 7699 26X76-1/2X3—Sponge Rubber Mattresses Rehabilitation.

NSN: 7699 26X76X4-1/2—Sponge Rubber Mattresses Rehabilitation.

NSN: 7699 28 X 76 X 4—Sponge Rubber Mattresses Rehabilitation.

NSN: 7699 28 X 76 X 6—Sponge Rubber Mattresses Rehabilitation.

NSN: 7699 34-3/4X76X6—Sponge Rubber Mattresses Rehabilitation.

NPA: UNKNOWN.

Contracting Activity: GSA, Southwest Supply Center, Fort Worth, TX.

Strap Assembly

NSN: 5855-00-125-0762—Strap Assembly.

NPA: Cambria County Association for the Blind and Handicapped, Johnstown, PA.

Contracting Activity: Defense Supply Center Columbus, Columbus, OH.

Table, VDT

NSN: 7110-01-226-1706—Table, VDT.

NSN: 7110-01-226-9888—Table, VDT.

NPA: UNKNOWN.

Contracting Activity: GSA, National Furniture Center, Arlington, VA.

Tree Shade

NSN: 9905-00-NSH-0153—Tree Shade.

NPA: Sunrise Enterprises of Roseburg, Inc., Roseburg, OR.

Contracting Activity: USDA, Forest Service, Portland, Portland, OR.

Services

Service Type/Location: Commissary Shelf Stocking, Custodial & Warehousing, Fort McPherson, Fort McPherson, GA.

NPA: WORKTEC, Jonesboro, GA.

Contracting Activity: Defense Commissary Agency, Fort Lee, VA.

Sheryl D. Kennerly,
Director, Information Management.

[FR Doc. E6-21358 Filed 12-14-06; 8:45 am]

BILLING CODE 6353-01-P